DEPARTMENT OF DEFENSE

Department of the Army

Defense Transportation Regulation, Part IV, Personal Property; Change 1

AGENCY: Department of the Army, DOD.

ACTION: Notice; final policy.

SUMMARY: Change 1 of DOD 4500.9-R, the Defense Transportation Regulation, Part IV, Personal Property has been published and released as of August 2003. The revised DOD Regulation 4500.9-R, Part IV, supercedes DOD Regulation 4500.9-R, Part IV, dated August 1999 and replaces DOD Regulation 4500.34R. Personal Property Traffic Management Regulation (PPTMR). A notice regarding the change to this part of the Defense Transportation Regulation was published in the Federal Register, April 11, 2002 (67 FR 17679). The carrier associations and individual carriers and agents responded to the Federal Register notice with approximately 200 individual comments. Those comments were carefully reviewed and considered prior to finalizing the publication. The disposition of those comments has been coordinated through the Military Traffic Management Command (MTMC), the military Services, and the United States Transportation Command. A document explaining the disposition of those comments will be available for review via the Internet on the MTMC's Home page at http://www.mtmc.army.mil.

EFFECTIVE DATE: August 6, 2003.

FOR FURTHER INFORMATION CONTACT: Debora Barnard, U.S. Transportation Command, TCJ5-PT, 508 Scott Drive, Scott AFB, IL, 62225, (618) 229-1985. HQ MTMC CONTACT: Robert Dawson or Alex Moreno, HQ Military Traffic Management Command MTPP-PP, 200 Stovall Street, Hoffman II, Room 10N67-72, Alexandria, VA, 22332-5000, (703) 428-3495.

SUPPLEMENTARY INFORMATION: This publication applies to the Office of the Secretary of Defense, Military Departments, Chairman and Joint Chiefs of Staff, Unified Commands, and the Defense Agencies. The public may obtain copies of the new DTR Part IV for a fee from the U.S. Department of Commerce, National Technical Information Services, 5285 Port Royal, Springfield, VA 22161.

Regulatory Flexibility Act: This action is not considered rule-making within the meaning of the Regulatory Flexibility Act, 5 U.S.C. 601-612.

Paperwork Reduction Act: The Paperwork Reduction Act, 44 U.S.C. 3051 et seq., does not apply because no information collection or record-keeping requirements are imposed on contractors, offerors, or members of the public.

Luz D. Ortiz,
Army Federal Register Liaison Officer.

[FR Doc. 03-22630 Filed 9-4-03; 8:45 am]

BILLING CODE 3710-08-M